DEPARTMENT OF ENERGY

Federal Energy Regulatory Commission

[Docket Nos. CP16-498-000; PF16-4-000 ]

Columbia Gas Transmission, LLC; Notice of Revised Schedule for Environmental Review of the B-System Project

This notice identifies the Federal Energy Regulatory Commission staff's revised schedule for the completion of the environmental assessment (EA) for Columbia Gas Transmission, LLC's (Columbia) B-System Project. The original notice of schedule, issued on December 20, 2016, identified March 13, 2017 as the EA issuance date. Due to updated B-System Project information filed by Columbia on February 7, 2017, staff has revised the schedule for issuance of the EA.

Schedule for Environmental Review

Issuance of EA—April 28, 2017

90-day Federal Authorization Decision Deadline—July 27, 2017

If a schedule change becomes necessary, an additional notice will be provided so that the relevant agencies are kept informed of the project's progress.

Additional Information

In order to receive notification of the issuance of the EA and to keep track of all formal issuances and submittals in specific dockets, the Commission offers a free service called eSubscription (http://www.ferc.gov/docs-filing/esubscription.asp). Additional information about the project may be obtained by contacting the Environmental Project Manager, Kenneth Warn, by telephone at 202-502-6859 or by electronic mail at kenneth.warn@ferc.gov.

Dated: February 16, 2017.
Nathaniel J. Davis, Sr.,
Deputy Secretary.

[FR Doc. 2017-03565 Filed 2-23-17; 8:45 am]

BILLING CODE 6717-01-P